ENVIRONMENTAL PROTECTION AGENCY

[FRL-9946-21-ORD]

Webinar Workshop To Review Initial Draft Materials for the Particulate Matter (PM) Integrated Science Assessment (ISA) for Health and Welfare Effects

AGENCY: Environmental Protection Agency (EPA).

ACTION: Notice of workshop.

SUMMARY: As part of the review of the air quality criteria for the particulate matter (PM) primary (health-based) and secondary (welfare-based) National Ambient Air Quality Standards (NAAQS), EPA is announcing a webinar workshop to evaluate initial draft materials for the PM Integrated Science Assessment (ISA) for health and welfare effects, which is being organized by EPA's National Center for Environmental Assessment (NCEA) within the Office of Research and Development. The workshop will be held over four days: June 9th, 13th, 20th, and 22nd, 2016. The workshop will be open to webinar attendance by interested public observers on a first-come, first-served basis.

DATES: The workshop will be held on Thursday, June 9, 2016, beginning at 11:30 a.m. and ending at 3:30 p.m.; Monday, June 13, 2016, beginning at 11:30 a.m. and ending at 1:30 p.m.; Monday, June 20, 2016, beginning at 11:30 a.m. and ending at 1:45 p.m.; and Wednesday, June 22, 2016, beginning at 11:30 a.m. and ending at 3:00 p.m.

ADDRESSES: The workshop will be held by teleconference and webinar. The call in number and Web site information for the webinar are available to registered participants. Please register by going to http://pm-isa-peerinput-webinars.eventbrite.com.

FOR FURTHER INFORMATION CONTACT: Please direct questions regarding workshop registration or logistics to Canden Byrd at EPA_NAAQS_Workshop@icfi.com or by phone at 919-293-1660. Questions regarding the scientific and technical aspects of the workshop should be directed to Mr. Jason Sacks; telephone: 919-541-9729; facsimile: 919-541-1818; email: sacks.jason@epa.gov.

SUPPLEMENTARY INFORMATION:

I. Summary of Information About the Workshop

Section 109(d) of the Clean Air Act (CAA) requires the U.S. EPA to conduct periodic reviews of the air quality criteria for each air pollutant listed under section 108 of the Act. Based on such review, EPA is to retain or revise the NAAQS for a given pollutant as appropriate. As part of these reviews, NCEA assesses newly available scientific information and develops ISA documents that provide the scientific basis for the reviews of the NAAQS.

NCEA is holding this webinar workshop to inform EPA's evaluation of the scientific evidence for the review of the primary and secondary NAAQS for PM. Section 109(b)(1) of the CAA defines primary NAAQS as standards “the attainment and maintenance of which in the judgment of the Administrator, based on such criteria and allowing an adequate margin of safety, are requisite to protect the public health.” A secondary standard, as defined in section 109(b)(2) of the CAA, must “specify a level of air quality the attainment and maintenance of which, in the judgment of the Administrator, based on such criteria, is requisite to protect the public welfare from any known or anticipated adverse effects associated with the presence of [the] pollutant in the ambient air.” The purpose of the webinar workshop is to discuss the scientific content of the initial draft written materials prepared for the PM ISA for health and welfare effects, to help ensure that the ISA is up-to-date and focuses on the key evidence to inform the scientific understanding for the review of the primary and secondary NAAQS for PM. Workshop sessions will include a discussion of preliminary draft written materials on the atmospheric chemistry of and human exposure to PM; welfare effects of PM; modes of action and dosimetry of PM, and the relationship between PM and cancer; and the health effects evidence from animal toxicology, human clinical, and epidemiology studies. In addition, roundtable discussions will help identify key studies or concepts within each discipline to assist EPA in integrating relevant literature within and across disciplines. These preliminary materials are not being released as an external draft, but will be used to guide workshop discussions. EPA is planning to release the first external review draft PM ISA for health and welfare effects for review by the Clean Air Scientific Advisory Committee and the public in 2017.

II. Workshop Information

Members of the public may attend the webinar as observers. Space in the webinar may be limited, and reservations will be accepted on a first-come, first-served basis. Registration for the workshop is available online at http://pm-isa-peerinput-webinars.eventbrite.com.

Dated: May 3, 2016.
Mary A. Ross,
Deputy Director, National Center for Environmental Assessment.

[FR Doc. 2016-11122 Filed 5-10-16; 8:45 am]

BILLING CODE 6560-50-P